ENVIRONMENTAL PROTECTION AGENCY

[FRL-9542-08-OAR]

Final Allocations of Cross-State Air Pollution Rule Allowances From New Unit Set-Asides for 2024 Control Periods

AGENCY: Environmental Protection Agency (EPA).

ACTION: Notice of data availability.

SUMMARY: The Environmental Protection Agency (EPA) is providing notice of the availability of data on emission allowance allocations to certain units under the Cross-State Air Pollution Rule (CSAPR) trading programs. EPA has completed final calculations for the allocations of allowances from the new unit set-asides (NUSAs) for the 2024 control periods and has posted spreadsheets containing the calculations on EPA's website. EPA has also completed calculations for allocations of the remaining 2024 NUSA allowances to existing units and has posted spreadsheets containing those calculations on EPA's website as well.

DATES: April 22, 2025.

FOR FURTHER INFORMATION CONTACT: Questions concerning this action should be addressed to Morgan Riedel at (202) 564-1144 or riedel.morgan@epa.gov.

SUPPLEMENTARY INFORMATION: Under each CSAPR trading program where EPA is responsible for determining emission allowance allocations, a portion of each state's emissions budget for the program for each control period is reserved in a NUSA (and, under most of the trading programs, in an additional Indian country NUSA in the case of states with Indian country within their borders) for allocation to certain units that would not otherwise receive allowance allocations. The procedures for identifying the eligible units for each control period and for allocating allowances from the NUSAs and Indian country NUSAs to these units are set forth in the CSAPR trading program regulations at 40 CFR 97.411(b) and 97.412 (NOX Annual), 97.511(b) and 97.512 (NOX Ozone Season Group 1), 97.611(b) and 97.612 (SO2 Group 1), 97.711(b) and 97.712 (SO2 Group 2), and 97.811(b) and 97.812 (NOX Ozone Season Group 2, including units using Original Group 2 allowances and units using Expanded Group 2 allowances).¹ Each NUSA allowance allocation process involves allocations to eligible units, termed “new” units, followed by the allocation to “existing” units of any allowances not allocated to new units.

¹ EPA has no current plans to determine NUSA allowance allocations for the 2024 control period under the CSAPR NOX Ozone Season Group 3 Trading Program regulations at 40 CFR 97.1012. In response to judicial stay orders, implementation of that program has been administratively stayed for all sources for the 2024 control period and will remain stayed for future control periods unless and until provided otherwise in a future rulemaking. See 88 FR 49295 (July 31, 2023); 88 FR 67102 (September 29, 2023); 89 FR 87960 (November 6, 2024).

In a notice of data availability (NODA) published in the Federal Register on February 28, 2025 (90 FR 10899), EPA provided notice of the preliminary calculations of NUSA allowance allocations for the 2024 control periods and described the process for submitting any objections. EPA received no objections in response to the February 28, 2025 NODA. This NODA concerns the final NUSA allowance allocations.

The detailed unit-by-unit data and final allowance allocation calculations are set forth in Excel spreadsheets titled “CSAPR_NUSA_2024_NOx_Annual_Final_Data_New_Units,” “CSAPR_NUSA_2024_NOx_OS_Final_Data_New_Units,” “CSAPR_NUSA_2024_SO2_Final_Data_New_Units,” “CSAPR_NUSA_2024_NOx_Annual_Final_Data_Existing_Units,” “CSAPR_NUSA_2024_NOx_OS_Final_Data_Existing_Units,” and “CSAPR_NUSA_2024_SO2_Final_Data_Existing_Units”, available on EPA's website at www.epa.gov/Cross-State-Air-Pollution/csapr-compliance-year-2024-nusa-nodas.

EPA notes that an allocation or lack of allocation of allowances to a given unit under a given CSAPR trading program does not constitute a determination that the trading program does or does not apply to the unit. EPA also notes that, under 40 CFR 97.411(c), 97.511(c), 97.611(c), 97.711(c), and 97.811(c), allocations are subject to potential correction if a unit to which allowances have been allocated for a given control period is not actually an affected unit as of the start of that control period.

(Authority: 40 CFR 97.411(b), 97.511(b), 97.611(b), 97.711(b), and 97.811(b).)

Rona Birnbaum,
Director, Clean Air and Power Division, Office of Atmospheric Protection, Office of Air and Radiation.

[FR Doc. 2025-06871 Filed 4-21-25; 8:45 am]

BILLING CODE 6560-50-P